DEPARTMENT OF JUSTICE

Antitrust Division

Notice Pursuant to the National Cooperative Research and Production Act of 1993—Sony Honda Mobility Inc.

Notice is hereby given that, on August 24, 2022, pursuant to Section 6(a) of the National Cooperative Research and Production Act of 1993, 15 U.S.C. 4301 et seq. (“the Act”), Honda Motor Co., Ltd., on behalf of its joint venture with Sony Group Corporation, to be incorporated as Sony Honda Mobility Inc. (“Sony Honda Mobility”), has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Sony Group Corp, Tokyo, JAPAN; and Honda Motor Co., Ltd., Tokyo, JAPAN. The general area of Sony Honda Mobility's planned activity is the development and production of high-value-added electric vehicles, as well as components and advanced mobility services software and technologies for integration into vehicles.

Suzanne Morris,
Chief, Premerger and Division Statistics, Antitrust Division.

[FR Doc. 2022-20229 Filed 9-16-22; 8:45 am]

BILLING CODE P